DEPARTMENT OF COMMERCE

National Oceanic and Atmospheric Administration

50 CFR Part 660

[Docket No. 040830250-5062-03; I.D. 062705B]

Fisheries Off West Coast States and in the Western Pacific; Pacific Coast Groundfish Fishery; Specifications and Management Measures; Inseason Adjustments

AGENCY: National Marine Fisheries Service (NMFS), National Oceanic and Atmospheric Administration (NOAA), Commerce.

ACTION: Inseason adjustments; request for comments.

SUMMARY: NMFS announces adjustments to management measures in the commercial Pacific Coast groundfish fishery. These actions, which are authorized by the Pacific Coast Groundfish Fishery Management Plan (FMP), will allow fisheries to access more abundant groundfish stocks while protecting overfished and depleted stocks.

DATES: Effective 0001 hours (local time) July 1, 2005. Comments on this rule will be accepted through August 4, 2005.

ADDRESSES: You may submit comments, identified by I.D. 062705B, by any of the following methods:

• E-mail: GroundfishInseason3.nwr@noaa.gov. Include 062705B in the subject line of the message.

• Federal eRulemaking Portal: http://www.regulations.gov. Follow the instructions for submitting comments.

• Mail: D. Robert Lohn, Administrator, Northwest Region, NMFS, 7600 Sand Point Way NE, Seattle, WA 98115-0070; or Rod McInnis, Administrator, Southwest Region, NMFS, 501 West Ocean Blvd, Suite 4200, Long Beach, CA 90802-4213.

• Fax: 206-526-6736, Attn: Carrie Nordeen.

FOR FURTHER INFORMATION CONTACT: Carrie Nordeen (Northwest Region, NMFS), phone: 206-526-6144; fax: 206-526-6736; and e-mail: carrie.nordeen@noaa.gov.

SUPPLEMENTARY INFORMATION:

Electronic Access

This Federal Register document is available on the Government Printing Office's website at: www.gpoaccess.gov/fr/index.html.

Background information and documents are available at the NMFS Northwest Region website at: www.nwr.noaa.gov/1sustfsh/gdfsh01.htm and at the Pacific Fishery Management Council's website at: www.pcouncil.org.

Background

The FMP and its implementing regulations at title 50 in the Code of Federal Regulations (CFR), part 660, subpart G, regulate fishing for over 80 species of groundfish off the coasts of Washington, Oregon, and California. Groundfish specifications and management measures are developed by the Pacific Fishery Management Council (Pacific Council), and are implemented by NMFS. The specifications and management measures for 2005-2006 were codified in the CFR (50 CFR Part 600, Subpart G) and published in the Federal Register as a proposed rule on September 21, 2004 (69 FR 56550), and as a final rule on December 23, 2004 (69 FR 77012). The final rule was subsequently amended on March 18, 2005 (70 FR 13118), March 30, 2005 (70 FR 16145), May 3, 2005 (70 FR 22808), May 4, 2005 (70 FR 23040), May 5, 2005 (70 FR 23804), and May 19, 2005 (70 FR 28852).

The following changes to current groundfish management measures were recommended by the Pacific Council, in consultation with Pacific Coast Treaty Indian Tribes and the States of Washington, Oregon, and California, at its June 12-17, 2005, meeting in Foster City, CA. The changes recommended by the Pacific Council are as follows: (1) increase the limited entry trawl trip limits for sablefish, longspine thornyhead, shortspine thornyhead, minor slope rockfish, and splitnose rockfish; (2) increase the limited entry fixed gear and open access limits for minor shelf rockfish, minor nearshore rockfish, and black rockfish; and (3) increase the open access bycatch limits for canary rockfish and yelloweye rockfish. Pacific Coast groundfish landings will be monitored throughout the year; further adjustments to trip limits or management measures will be made as necessary to allow achievement of, or to avoid exceeding, optimum yields (OYs).

Limited Entry Trawl Fishery

At the June meeting, the Pacific Council's Groundfish Management Team (GMT) reviewed the best available data on estimates of landed catch and total mortality for the limited entry trawl fishery. These data, which were complete through the end of April, were compared to catch and mortality estimates modeled for the trawl fishery and were used to update model predictions through the end of the year.

Based on the Pacific Fishery Information Network's (PacFIN's) Quota Species Monitoring(QSM) data, groundfish landed catch and total mortality data were, in general, either similar to the total mortality estimated by the trawl bycatch model or were much lower than model projections. For example, the reported catch of Dover sole and petrale sole was within 10 percent of model predictions while the catch of longspine thornyhead was 59 percent less than predicted. The catch of slope rockfish is an exception, however, as landed catch estimates were 63 percent higher than model predictions.

The trawl bycatch model was updated with these most recent landed catch and total mortality estimates and was used to predict groundfish catch levels for the remainder of the year. Based on model results, the catch of Dover sole, petrale sole, and shortspine thornyhead is predicted to achieve their respective OYs by the end of the year. The catch of overfished species is not predicted to exceed their rebuilding OYs. Additionally, if current limited entry trawl trip limits and rockfish conservation area (RCA) boundaries remain unchanged, the trawl bycatch models predicts that the catch of longspine thornyhead, sablefish, and slope rockfish will be significantly less than their respective OYs.

The GMT discussed inseason adjustments to allow fisheries for slope rockfish, sablefish, and longspine thornyhead to be prosecuted more effectively. One option to allow access to these species would have been to decrease the size of the trawl RCA, in the area between the U.S./Canada border and 40°10′ N. lat., by moving the westward boundary of the trawl RCA boundary from specific latitude and longitude coordinates approximating the 200-fm (366-m) depth contour to coordinates approximating the 180-fm (329-m) depth contour. Because this inseason adjustment has the potential of increasing the incidental catch of darkblotched rockfish during summer months, the GMT decided against recommending a decrease in the size of the trawl RCA. The GMT also analyzed increasing limited entry trawl trip limits and recommended that the Pacific Council consider modest increases for certain species in order to allow greater harvest opportunities while keeping catch within groundfish OYs.

The Pacific Council considered and adopted the GMT's recommendations and NMFS is implementing these limited entry trawl trip limit increases. The following limited entry trawl trip limit increases apply to the area between the U.S./Canada border and 40°10′ N. lat. The limited entry trawl large and small footrope sablefish trip limit is increased from 17,000 lb (7,711 kg) per 2 months to 18,000 lb (8,165 kg) per 2 months during July through October and from 8,000 lb (3,629 kg) per 2 months to 13,000 lb (5,897 kg) per 2 months for November and December. The limited entry trawl selective flatfish sablefish trip limit is increased from 10,000 lb (4,536 kg) per 2 months to 15,000 lb (6,804 kg) per 2 months during July through October and from 1,500 lb (680 kg) per 2 months to 10,000 lb (4,536 kg) per 2 months for November and December. The limited entry trawl selective flatfish longspine thornyhead trip limit is increased from 1,000 lb (454 kg) per 2 months to 8,000 lb (3,629 kg) per 2 months during July through October and from 1,000 lb (454 kg) per 2 months to 2,000 lb (907 kg) per 2 months for November and December. The limited entry trawl large and small footrope shortspine thornyhead trip limit is increased from 4,900 lb (2,223 kg) per 2 months to 5,200 lb (2,359 kg) per 2 months during July through October and from 3,500 lb (1,588 kg) per 2 months to 3,700 lb (1,678 kg) per 2 months for November and December. Additionally, the limited entry trawl selective flatfish shortspine thornyhead trip limit is increased from 3,000 lb (1,361 kg) per 2 months to 4,000 lb (1,814 kg) per 2 months during July through October and from 1,000 lb (454 kg) per 2 months to 2,000 lb (907 kg) per 2 months for November and December.

For the area between 40°10′ N. lat. and 38° N. lat., the limited entry trawl minor slope rockfish and splitnose trip limit is increased from 8,000 lb (3,629 kg) per 2 months to 20,000 lb (9,072 kg) per 2 months during July and August.

The following limited entry trawl trip limit increases apply to the area between 40°10′ N. lat. and the U.S./Mexico border. The limited entry trawl sablefish trip limit is increased from 14,000 lb (6,350 kg) per 2 months to 16,000 lb (7,258 kg) per 2 months for the remainder of the year. Additionally, the limited entry trawl shortspine thornyhead trip limit is increased from 4,200 lb (1,905 kg) per 2 months to 4,600 lb (2,087 kg) per 2 months for the remainder of the year.

These trip limit increases are designed to allow the harvest of slope species to approach, but not exceed, their OYs. When compared to status quo management, these modest increases are predicted to result in only small amounts of additional overfished species catch above catch levels currently predicted for the fishery. The fishery is proceeding at a lower harvest rate than NMFS had predicted at the start of 2005. Therefore, the increased harvest opportunities provided in this notice are expected to keep overall harvest within allowable 2005 levels. Groundfish catch levels will continue to be monitored throughout the year and further inseason adjustments will be made if catch is predicted to exceed any groundfish OY.

Limited Entry Fixed Gear and Open Access

The Pacific Council received three trip limit increase requests, one from the limited entry fixed gear fleet and two from the open access fishery fleet, and considered these requests at its June meeting. The request from the limited entry fixed gear fleet was to increase minor shelf rockfish limits in the area between 34°27′ N. lat. and the U.S./Mexico border from 2,000 lb (907 kg) per 2 months to 5,000 lb (2,268 kg) per 2 month for the remainder of the year.

Because landed catch estimates of shelf rockfish are generally tracking lower than predicted through the end of April and total mortality estimates of overfished species are not yet a concern this year, the GMT discussed and analyzed an increase in the limited entry fixed gear limit for minor shelf rockfish. Cowcod, an overfished species, can be incidentally encountered in the area south of 34°27′ N. lat. and particularly in waters 40 fm (73 m) to 60 fm (110 m) in depth. For the area south of 34°27′ N. lat., the shoreward boundary of the non-trawl RCA is a series of specific latitude and longitude coordinates that approximate the 60 fm (110 m) depth contour; therefore, fishing effort may have become concentrated in areas between 40 fm (73 m) and 60 fm (110 m). Few groundfish observer data exist for the limited entry fixed gear sector in this area of the coast, so the GMT was unable to predict the increased amount of cowcod catch that may be associated with the trip limit increase from 2,000 lb (907 kg) per 2 months to 5,000 lb (2,268 kg) per two months. After discussing the potential effects of such an increase, the GMT recommended to the Pacific Council that a smaller trip limit increase, one that increased limits to 3,000 lb (1,361 kg) per 2 months, would be more risk averse and could be accommodated more easily. The Pacific Council considered and adopted the GMT's recommendation and NMFS is implementing an increase to the limited entry fixed gear minor shelf rockfish limit, for the area between 34°27′ N. lat. and the U.S./Mexico border, from 2,000 lb (907 kg) per 2 months to 3,000 lb (1,361 kg) per 2 months for the remainder of the year.

One of the trip limit requests from the open access fleet was also regarding the minor shelf rockfish limit. The request addressed the open access minor shelf rockfish limit from 500 lb (227 kg) per 2 months to 1,000 lb (454 kg) per 2 months. For reasons discussed previously, the GMT discussed the potential for additional incidental catch of cowcod associated with this requested trip limit increase. The GMT also considered whether this trip limit increase could result in unanticipated effort shifts, given the high value of certain nearshore species. Without a better understanding of how this increase may affect effort in the open access fishery, the GMT did not believe that this increase could be accommodated. To address equity between limited entry fixed gear and open access fisheries, the GMT considered an open access increase similar to one implemented for the limited entry fixed gear minor shelf rockfish trip limit. A more moderate minor shelf rockfish increase, from 500 lb (227 kg)per 2 months to 750 lb (340 kg)per 2 months, is more risk averse than the initial request and could be accommodated without conservation concerns. Therefore, the Pacific Council recommended and NMFS is implementing an increase to the open access minor shelf rockfish limit, in the area between 34°27′ N. lat. and the U.S./Mexico border, from 500 lb (227 kg) per 2 months to 750 lb (340 kg) per 2 months for the remainder of the year.

The second request from the open access fleet was to increase black rockfish limits in the area between 42° N. lat. and 40°0′ N. lat. The catch of black rockfish through the end of April has been lower than predicted. To provide additional access to black rockfish, the GMT considered increasing the minor nearshore rockfish and black rockfish limit and determined that a modest increase could be accommodated without conservation concerns. Again, to address equity between the limited entry fixed gear and open access fleets, a similar increase will apply to the limited entry fixed gear fishery. Therefore the Pacific Council recommended and NMFS is implementing an increase to the limited entry fixed gear and open access minor nearshore rockfish and black rockfish limit, in the area between 42° N. lat. and 40°10′ N. lat., from 5,000 lb (2,268 kg)per 2 months, no more than 1,200 lb (544 kg) of which may be species other than black or blue rockfish, to 6,000 lb (2,722 kg) per 2 months, no more than 1,200 lb (544 kg) of which may be species other than black or blue rockfish. As mentioned previously, these trip limit increases are designed to allow the harvest of rockfish species to approach, but not exceed, their OYs. These modest increases are not predicted to result in additional catch of any overfished species. Groundfish catch levels will continue to be monitored throughout the year and further inseason adjustments will be made if catch is predicted to exceed any groundfish OY.

Open Access Bycatch Limits

In May, NMFS implemented an emergency rule (70 FR 23804, May 5, 2005) to establish bycatch limits for two overfished species, canary rockfish and yelloweye rockfish, in the directed open access fishery. This rule was prompted by the possibility of an unanticipated effort increase in the directed open access fishery and the potential effect this unanticipated effort could have had on the total catch of canary rockfish and yelloweye rockfish. The rebuilding OYs of both canary rockfish and yelloweye rockfish are constraining factors for the Pacific Coast groundfish fishery. If the total catch of either of these species was higher than predicted, for any sector of the fishery, it could have severe consequences for the entire groundfish fishery. As a precautionary measure to keep catch within projected levels, NMFS implemented bycatch limits of 1.0 mt of canary rockfish and 0.6 mt of yelloweye rockfish for the directed open access fishery. If either of these bycatch limits is reached, the open access groundfish fishery would be constrained to incidental landings levels, such that fishery participants would be subject to a 200 lb (91 kg) per month trip limit for all groundfish species, except Pacific whiting.

The bycatch limits for the canary rockfish and yelloweye rockfish were based on the GMT's bycatch scorecard, a tool for tracking reported, as well as projected, catch of overfished species throughout the year. At the Pacific Council's June meeting, the bycatch scorecard was updated with catch estimates from the open access fishery. This update revised bycatch scorecard projections of catch in the open access fishery through the end of the year. Based on updated and revised projections, the open access bycatch limits for canary rockfish and yelloweye rockfish will be increased. The Pacific Council recommended and NMFS is implementing an increase to the open access canary rockfish bycatch limit from 1.0 mt to 3.0 mt and an increase to the open access yelloweye rockfish bycatch limit from 0.6 mt to 3.0 mt. These bycatch limits are designed to keep the open access catch of canary and yelloweye rockfish within projected catch levels and to prevent higher than anticipated catch of these species from constraining, perhaps significantly, the harvesting opportunities of the limited entry fisheries for the remainder of the year. As described above, if either of these bycatch limits is reached, the open access groundfish fishery would be constrained to a 200 lb (91 kg) per month trip limit for all groundfish species, except Pacific whiting.

Clarification

The specifications and management measures for 2005-2006 were codified in the CFR (50 CFR Part 660, Subpart G) and published in the Federal Register as a proposed rule on September 21, 2004 (69 FR 56550) and as a final rule on December 23, 2004 (69 FR 77012). During this process, a 2005 commercial harvest guideline of 90.9 mt was set for darkblotched rockfish. After 2005 projected research catch (3.8 mt) and the 2005 commercial harvest guideline were subtracted from the darkblotched rockfish acceptable biological catch (ABC)/OY of 269 mt, a darkblotched rockfish residual amount of 174.3 mt was left over to be used as necessary during the 2005 fishing year. The GMT anticipates that the darkblotched rockfish commercial harvest guideline of 90.9 mt will likely be achieved some time this summer or early fall. Because darkblotched rockfish is an important slope species and constraining the fishery to the darkblotched rockfish harvest guideline would result in severe economic consequences, the GMT and the Pacific Council recommended using some of the 174.3 mt residual to allow for continued fishing seaward of the RCA throughout the year. Because such an action is not anticipated to result in exceeding the darkblotched rockfish ABC/OY or the OY of any other groundfish species, NMFS concurs with this recommendation.

This inseason action also clarifies the limited entry trawl large and small footrope trip limit for Pacific whiting during the whiting primary season, 10,000 lb (4,536 kg) per trip, in Table 3 (North) and Table 3 (South).

Classification

These actions are taken under the authority of 50 CFR 660.370(c) and are exempt from review under Executive Order 12866.

These actions are authorized by the FMP and its implementing regulations, and are based on the most recent data available. The aggregate data upon which these actions are based are available for public inspection at the Office of the Administrator, Northwest Region, NMFS, (see ADDRESSES) during business hours.

Pursuant to 5 U.S.C. 553(b)(B), there is good cause to waive prior notice and an opportunity for public comment on this action, as notice and comment would be impracticable and contrary to the public interest. The data upon which these recommendations were based were provided to the Pacific Council and the Pacific Council made its recommendations at its June 12-17, 2005, meeting in Foster City, CA. There was not sufficient time after that meeting to draft this notice and undergo proposed and final rulemaking before these actions need to be in effect, as explained below.

The adjustments to groundfish management measures in this document are trip limit increases for the limited entry and open access fisheries and increases to open access bycatch limits. These adjustments to fishery management measures must be implemented by July 1, 2005, the start of the next cumulative limit period, to keep the harvest of groundfish species within the projected harvest levels for 2005 and encourage the OY attainment for certain commercially important target species. Additionally, increases to bycatch limits for two overfished species whose catch constrains the directed open access fishery will provide additional fishing opportunity for open access fisheries. Delaying any of these increases would be contrary to the public interest, because doing so could jeopardize achieving FMP management objectives, specifically the goals to maximize the value of the groundfish resource, achieve the maximum biological yield of the overall groundfish fishery, and promote year-round availability of quality seafood to the consumer.

For these reasons, good cause also exists to waive the 30 day delay in effectiveness requirement under 5 U.S.C. 553 (d)(3).

List of Subjects in 50 CFR Part 660

Administrative practice and procedure, American Samoa, Fisheries, Fishing, Guam, Hawaiian Natives, Indians, Northern Mariana Islands, Reporting and recordkeeping requirements.

Dated: June 28, 2005.
Alan D. Risenhoover,
Acting Director, Office of Sustainable Fisheries, National Marine Fisheries Service.

For the reasons set out in the preamble, 50 CFR part 660 is amended as follows:

PART 660—FISHERIES OFF WEST COAST STATES AND IN THE WESTERN PACIFIC

1. The authority citation for part 660 continues to read as follows:

Authority: 16 U.S.C. 1801 et seq.

2. In § 660.383, paragraph (f) is revised to read as follows:

§ 660.383 Open access fishery management measures.

* * * * *

(f) 2005 bycatch limits in the directed open access fishery. Bycatch limits for the directed open access fishery may be used inseason to reduce overall groundfish trip limits to incidental levels to achieve the rebuilding of an overfished or depleted stock, under routine management measure authority at § 660.370(c)(1)(ii). These limits are routine management measures under § 660.370(c)(1)(ii) and, as such, may be adjusted inseason or may have new species added to the list of those with bycatch limits. For 2005, the directed open access fishery bycatch limits are 3.0 mt of canary rockfish and 3.0 mt of yelloweye rockfish. Under automatic action authority at Sec. 660.370(d), if either of these limits is reached, groundfish trip limits will be reduced to an incidental level. Under this authority, reducing groundfish trip limits to an incidental level means that any vessel operating off the West Coast that is not registered for use with a limited entry permit will be constrained to a trip limit for all groundfish, excluding Pacific whiting of no more than 200 lb(90.7 kg) per month.

* * * * *

3. In part 660, subpart G, Tables 3-5 are revised to read as follows:

BILLING CODE 3510-22-S

[FR Doc. 05-13178 Filed 6-29-05; 2:56 pm]

BILLING CODE 3510-22-C